INTERNATIONAL TRADE COMMISSION

[Investigation No. 337-TA-1302]

Certain Cellular Base Station Communication Equipment, Components Thereof, and Products Containing Same; Notice of Commission Determination Not To Review an Initial Determination Terminating the Investigation Based on Settlement; Termination of the Investigation

AGENCY: U.S. International Trade Commission.

ACTION: Notice.

SUMMARY: Notice is hereby given that the U.S. International Trade Commission (“Commission”) has determined not to review an initial determination (“ID”) (Order No. 27) of the presiding administrative law judge (“ALJ”) granting a joint motion to terminate the investigation in its entirety based on settlement. The investigation is terminated.

FOR FURTHER INFORMATION CONTACT: Robert Needham, Office of the General Counsel, U.S. International Trade Commission, 500 E Street SW, Washington, DC 20436, telephone (202) 205-2392. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On February 25, 2022, the Commission instituted this investigation based on a complaint, as amended, filed on behalf of Apple Inc. of Cupertino, California (“Apple”). 87 FR 10819 (Feb. 25, 2022). The complaint alleged violations of section 337 of the Tariff Act of 1930, as amended, 19 U.S.C. 1337, based upon the importation into the United States, the sale for importation, and the sale within the United States after importation of certain cellular base station communication equipment, components thereof, and products containing same that infringe claims 1-3, 11, and 12 of U.S. Patent No. 9,882,282 (“the '282 patent”); claims 1-4, 6-10, 18, 19, and 21 of U.S. Patent No. 10,263,340 (“the '340 patent”); and claims 1-6, 13 and 14 of U.S. Patent No. 9,667,290 (“the '290 patent”). Id. The complaint also alleges that a domestic industry exists. Id. The Commission's notice of investigation names as respondents Ericsson AB of Stockholm, Sweden, and Ericsson Inc. of Plano, Texas (together, “Ericsson”). Id. The Office of Unfair Import Investigations (“OUII”) is participating in this investigation on the issues of remedy, the public interest, and bonding. Commission Investigative Staff's Notice of Partial Participation (Mar. 7, 2022).

On December 2, 2022, the Commission determined not to review an ID granting Apple's motion for summary determination that it has satisfied the economic prong of the domestic industry requirement with respect to the '282, '340, and '290 patents. Order No. 17 (Nov. 2, 2022); unreviewed by Comm'n Notice (Dec. 2, 2022).

On February 6, 2023, Apple and Ericsson filed a joint motion to terminate the investigation based on a settlement agreement. On February 7, 2023, OUII filed a response in support of the motion.

On February 22, 2023, the ALJ issued the subject ID pursuant to Commission Rule 210.21(b)(1) (19 CFR 210.21(b)(1)), granting the motion. The ID finds that terminating the investigation based on settlement has no adverse effect on the public interest. No party petitioned for review of the ID.

The Commission has determined not to review the subject ID. The investigation is hereby terminated in its entirety.

The Commission vote for this determination took place on March 22, 2023.

The authority for the Commission's determination is contained in section 337 of the Tariff Act of 1930, as amended (19 U.S.C. 1337), and in part 210 of the Commission's Rules of Practice and Procedure (19 CFR part 210).

By order of the Commission.
Issued: March 23, 2023.
Lisa R. Barton,
Secretary to the Commission.

[FR Doc. 2023-06371 Filed 3-27-23; 8:45 am]

BILLING CODE 7020-02-P